ENVIRONMENTAL PROTECTION AGENCY

40 CFR Part 60

[EPA-R01-OAR-2017-0514; FRL-9969-57-Region 1]

Notification of Partial Delegation of Authority; Vermont; New Source Performance Standards for New Residential Wood Heaters, New Residential Hydronic Heaters, and Forced-Air Furnaces

AGENCY: Environmental Protection Agency (EPA).

ACTION: Notification of partial delegation of authority.

SUMMARY: On September 19, 2017, the Environmental Protection Agency (EPA) sent the State of Vermont a letter approving Vermont's request for partial delegation of the New Source Performance Standards for New Residential Wood Heaters, New Residential Hydronic Heaters, and Forced-Air Furnaces (NSPS). To inform regulated facilities and the public of EPA's approval of Vermont's request for partial delegation of authority to implement and enforce the NSPS, the EPA is making available a copy of EPA's letter to Vermont through this document.

DATES: On September 19, 2017, EPA sent the State of Vermont a letter approving Vermont's request for partial delegation of the NSPS.

ADDRESSES: The EPA has established a docket for this action under Docket Identification No. EPA-R01-OAR-2017-0514. Copies of documents pertaining to this action are available for public inspection at our Region 1 office during normal business hours. All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Office of Ecosystem Protection, U.S. Environmental Protection Agency, EPA New England Regional Office, 5 Post Office Square, Boston, MA. EPA requests that if at all possible, you contact the contact listed in the FOR FURTHER INFORMATION CONTACT section to schedule your inspection. The Regional Office's official hours of business are Monday through Friday, 8:30 a.m. to 4:30 a.m., excluding legal holidays.

FOR FURTHER INFORMATION CONTACT: Eric Wortman, Air Permits, Toxics and Indoor Programs Unit, Office of Ecosystem Protection, U.S. Environmental Protection Agency, EPA New England Regional Office, 5 Post Office Square (OEP05-2), Boston, MA 02109-3912, telephone number (617) 918-1624, fax number (617) 918-0624, email wortman.eric@epa.gov.

SUPPLEMENTARY INFORMATION: In a letter dated May 19, 2017, the Vermont Agency of Natural Resources (VT ANR) notified the EPA that VT ANR had adopted an amended § 5-204 of the Vermont Air Pollution Control Regulation for Wood Stoves and Central Heaters and requested partial delegation to implement and enforce certain provisions of the NSPS. On September 19, 2017, the EPA sent VT ANR a letter approving the request for partial delegation to implement and enforce the NSPS as specified by VT ANR in its notification to the EPA. A copy of the EPA's September 19, 2017 letter to VT ANR follows:

Heidi Hales, Division Director

Department of Environmental Conservation

One National Life Drive

Montpelier, VT 05620-3802

Dear Ms. Hales:

On March 16, 2015, the EPA promulgated Standards of Performance for New Residential Wood Heaters, New Residential Hydronic Heaters, and Forced-Air Furnaces (NSPS) at 40 CFR part 60, subparts AAA and QQQQ. In your letter dated May 19, 2017, the Vermont Agency of Natural Resources (VT ANR) requested partial delegation to implement and enforce certain provisions of the NSPS.

Delegation Request

VT ANR requested partial delegation to implement and enforce the following provisions of the NSPS at 40 CFR 60.539a and 60.5482:

1. Enforcement of prohibitions on the installation and operation of affected wood heaters and central heaters in a manner inconsistent with the installation and owner's manual;

2. Enforcement of prohibitions on operation of catalytic wood heaters or central heaters where the catalyst has been deactivated or removed;

3. Enforcement of prohibitions on advertisement and/or sale of uncertified model lines;

4. Enforcement of prohibitions on advertisement and/or sale of affected wood heaters and central heaters that do not have the required permanent label;

5. Enforcement of proper labeling of affected wood heaters and central heaters; and

6. Enforcement of compliance with other labeling requirements for wood heaters and central heaters.

Delegation of Authority

On December 15, 2016, VT ANR adopted and amended the Vermont Air Pollution Control Regulations at § 5-204 for Wood Stoves and Central Heaters. In the May 19, 2017 letter, VT ANR provided copies of its revised regulations and its authority to accept delegation.

The EPA has reviewed the pertinent regulations of the State of Vermont, and has determined they provide an adequate and effective procedure for implementation of the requested NSPS provisions. Accordingly, the EPA hereby approves your request for partial delegation of authority to implement and enforce the identified provisions of the NSPS at 40 CFR 60.539a and 60.5482.

Please note that this partial delegation of authority is subject to the terms and conditions in the March 6, 1996 Memorandum of Understanding between the VT ANR and the EPA for delegation of Section 111 standards. In addition, the EPA is not delegating any authorities under 40 CFR 60.539a and 60.5482 that specifically indicate they cannot be delegated.

Since this delegation is effectively immediately, there is no need for VT ANR to notify the EPA of its acceptance. Unless we receive written notice of objections from VT ANR within ten (10) days from the date of this letter, VT ANR will be deemed to have accepted all of the terms as stated herein. We will publish a notice of delegation of authority in the Federal Register informing the public of this action.

The EPA appreciates Vermont's efforts to accept partial delegation and implement and enforce the Wood Heater and Central Heater NSPS delegated provisions. If you have any questions regarding this matter, please don't hesitate to contact Eric Wortman at (617) 918-1624.

Sincerely,

Deborah A. Szaro

Acting Regional Administrator

This document informs regulated facilities and the public of the EPA's approval of Vermont's request for partial delegation of authority to implement and enforce the NSPS. The partial delegation of authority was effective on September 19, 2017.

List of Subjects in 40 CFR Part 60

Environmental protection, Administrative practice and procedure, Air pollution control, Hazardous substances, Intergovernmental relations, Reporting and recordkeeping requirements.

Authority: This action is issued under the authority of section 111 of the Clean Air Act, as amended, 42 U.S.C. 7412.

Dated: October 2, 2017.
Deborah A. Szaro,
Acting Regional Administrator, EPA-New England.

[FR Doc. 2017-22364 Filed 10-16-17; 8:45 am]

BILLING CODE 6560-50-P